DEPARTMENT OF HEALTH AND HUMAN SERVICES

National Institutes of Health

Center For Scientific Review; Amended Notice of Meeting

Notice is hereby given of a change in the meeting of the Developmental Therapeutics Study Section, October 27, 2005, 8 a.m. to 5 p.m., October 28, 2005, Pooks Hill Bethesda Marriott, 5151 Pooks Hill Road, Bethesda, MD 20814, which was published in the Federal Register on October 7, 2005, 70 FR 58725-58728.

The meeting will be held at the Bethesda North Marriott Hotel and Conference Center, 5701 Marinelli Road, North Bethesda, MD 20852. The meeting dates and time remain the same. The meeting is closed to the public.

Dated: October 20, 2005.
Anthony M. Coelho, Jr.,
Acting Director, Office of Federal Advisory Committee Policy.

[FR Doc. 05-21660 Filed 10-31-05; 8:45 am]

BILLING CODE 4140-01-M